NATIONAL CREDIT UNION ADMINISTRATION

Sunshine Act: Notice of Agency Meeting

TIME AND DATE: 10:00 a.m., Thursday, September 17, 2020.

Recess: 12:00 p.m.

12:15 p.m., Thursday, September 17, 2020.

PLACE: Due to the COVID-19 Pandemic, the meeting will be open to the public via live webcast only. Visit the agency's homepage (www.ncua.gov) and access the provided webcast link.

STATUS: Parts of this meeting will be open to the public. The rest of the meeting will be closed to the public.

MATTERS TO BE CONSIDERED:

Portions Open to the Public

1. Board Briefing, Share Insurance Fund Quarterly Report.

2. Board Briefing, Modern Examination and Risk Identification Tool (MERIT) Update.

3. Customer Identification Program Exemption.

4. NCUA Rules and Regulations, Real Estate Appraisals.

Portions Closed to the Public

1. Supervisory Matter. Closed pursuant to Exemption (8).

CONTACT PERSON FOR MORE INFORMATION: Gerard Poliquin, Secretary of the Board, Telephone: 703-518-6304.

Gerard Poliquin,
Secretary of the Board.

[FR Doc. 2020-20355 Filed 9-11-20; 11:15 am]

BILLING CODE 7535-01-P